DEPARTMENT OF LABOR

Employment and Training Administration

Rodman Industries, Marinette, WI; Notice of Negative Determination Regarding Application for Reconsideration

By application dated September 12, 2006 and by application dated September 18, a company official and United Steelworkers 12-14A, District 2, requested administrative reconsideration of the Department's negative determination regarding eligibility to apply for Trade Adjustment Assistance (TAA) and Alternative Trade Adjustment Assistance (ATAA), applicable to workers and former workers of the subject firm. The denial notice was signed on August 16, 2006 and published in the Federal Register on September 6, 2006 (71 FR 52584).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The petition for the workers of Rodman Industries, Marinette, Wisconsin was denied because criteria (a)(2)(A)(I.B) and (a)(2)(B)(II.B) were not met. The negative determination was based on the findings that sales and production of particle board by the subject firm increased from 2004 to 2005 and from January through June of 2006 when compared with the same period in 2005. The subject firm did not shift production to a foreign country during the relevant period.

The petitioner provided additional information in the request for reconsideration. Review of the original investigation indicated that the subject facility ceased its production of particle board on August 14, 2006. Therefore, sales and production at the subject firm decreased absolutely during the relevant time period.

The Department conducted a survey of the subject firm's major customers regarding their purchases of particle board and like or directly competitive products to particle board during the relevant time period. The survey revealed that none of respondents imported particle board and like or directly competitive products to particle board during the relevant time period. The investigation also revealed that the subject firm did not increase imports of particle board and there was no shift in production of particle board to a foreign country during the relevant time period.

In order for the Department to issue a certification of eligibility to apply for ATAA, the worker group must be certified eligible to apply for TAA. Since the workers are denied eligibility to apply for TAA, the workers cannot be certified eligible for ATAA.

Conclusion

After reconsideration, I affirm the original notice of negative determination of eligibility to apply for worker adjustment assistance for workers and former workers of Rodman Industries, Marinette, Wisconsin.

Signed at Washington, DC, November 15, 2006.
Elliott S. Kushner,
Certifying Officer, Division of Trade Adjustment Assistance.

[FR Doc. E6-19793 Filed 11-22-06; 8:45 am]

BILLING CODE 4510-30-P